DEPARTMENT OF HEALTH AND HUMAN SERVICES

National Institutes of Health

National Institute of General Medical Sciences; Amended Notice of Meeting

Notice is hereby given of a change in the meeting of the National Institute of General Medical Sciences Special Emphasis Panel, December 01, 2016, 8:00 a.m. to December 01, 2016, 6:00 PM, Cambria Suites Rockville, 1 Helen Heneghan Way, Rockville, MD, 20850 which was published in the Federal Register on October 13, 2016, 81 FR 70688.

The meeting notice is amended to change the date to the meeting from December 1, 2016 to December 2, 2016. The meeting is closed to the public.

Dated: October 24, 2016.
Melanie J. Gray,
Program Analyst, Office of Federal Advisory Committee Policy.

[FR Doc. 2016-26050 Filed 10-27-16; 8:45 am]

BILLING CODE 4140-01-P